DEPARTMENT OF THE INTERIOR

Bureau of Land Management

[LLID9570000.LL14200000.BJ0000]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The plat representing the dependent resurvey of portions of the subdivisional lines and certain mineral surveys, T. 49 N., R. 5 E., Boise Meridian, Idaho, Group Number 1356, was accepted January 5, 2013.

The supplemental plat prepared to correct the ownership status of McRea Island, as depicted on the plat accepted October 28, 2011, T. 11 N., R. 6 W., Boise Meridian, Idaho, Group Number 1314 was accepted February 20, 2013.

The plat representing the dependent resurvey of portions of the north boundary, subdivisional lines and original 1904-1906 right bank meanders of the Salmon River in section 2, the subdivision of section 2, the survey of a portion of the 2011 right bank meanders of the Salmon River in section 2, the metes-and-bounds survey of a portion of the easterly right-of-way of U.S. Highway No. 95 in section 2, and the survey of lots 11, 12, and 13, in section 2, T. 24 N., R. 1 E., Boise Meridian, Idaho, Group Number 1345 was accepted March 7, 2013.

This survey was executed at the request of the U.S.D.A. Natural Resource Conservation Service to meet their administrative needs. The lands surveyed are:

The plat constituting the dependent resurvey of a portion of the Boise Base Line (south boundary) and subdivisional lines, and the subdivision of section 34, T. 1 N., R. 21 E., Boise Meridian, Idaho, and the plat constituting the dependent resurvey of a portion of the subdivisional lines, and the subdivision of sections 3 and 10, T. 1 S., R. 21 E., Boise Meridian, Idaho, Group Number 1374, were accepted February 5, 2013.

Dated: April 5, 2013.
Stanley G. French,
Chief Cadastral Surveyor for Idaho.

[FR Doc. 2013-08574 Filed 4-11-13; 8:45 am]

BILLING CODE 4310-GG-P